DEPARTMENT OF HOMELAND SECURITY

Transportation Security Administration

Extension of Agency Information Collection Activity Under OMB Review: Law Enforcement Officer Flying Armed Training

AGENCY: Transportation Security Administration, DHS.

ACTION: 30-day notice.

SUMMARY: This notice announces that the Transportation Security Administration (TSA) has forwarded the Information Collection Request (ICR), Office of Management and Budget (OMB) control number 1652-0034, abstracted below to OMB for review and approval of an extension of the currently approved collection under the Paperwork Reduction Act (PRA). The ICR describes the nature of the information collection and its expected burden. TSA published a Federal Register notice, with a 60-day comment period soliciting comments, of the following collection of information on February 11, 2015, 80 FR 7623. The collection involves TSA gathering information from territorial, tribal, federal, municipal, county, state, and authorized railroad law enforcement agencies who have requested the Law Enforcement Officer (LEO) Flying Armed training course.

DATES: Send your comments by May 20, 2015. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Law Enforcement Officer Flying Armed Training.

Type of Request: Extension of a currently approved collection.

OMB Control Number: 1652-0034.

Forms(s): N/A.

Affected Public: Law Enforcement Officers.

Abstract: TSA requires territorial, tribal, federal, municipal, county, state, and authorized railroad law enforcement officers (LEOs) who have a mission need to fly armed to complete the LEO Flying Armed Training under 49 CFR 1544.219. Eligibility is based on requirements stated in 49 CFR 1544.219. TSA will gather information, including agency name, address, and name of each individual who will receive the training, from law enforcement agencies that have requested the LEO Flying Armed training course. Applicant verification ensures that only LEOs with a valid need to fly armed aboard commercial aircraft receive training. Applicants come from territorial, tribal, federal, municipal, county, state, and authorized railroad law enforcement agencies throughout the country. For more information about the program, please see http://www.tsa.gov/lawenforcement/programs/traveling_with_guns.shtm.

Number of Respondents: 2,000.

Estimated Annual Burden Hours: An estimated 167 hours annually.

Dated: April 15, 2015.
Christina A. Walsh,
TSA Paperwork Reduction Act Officer, Office of Information Technology.

[FR Doc. 2015-09027 Filed 4-17-15; 8:45 am]

BILLING CODE 9110-05-P